NUCLEAR REGULATORY COMMISSION

[NRC-2017-0198]

Revision of the Guidance Document for Alternative Disposal Requests

AGENCY: Nuclear Regulatory Commission.

ACTION: Draft guidance; public meeting and request for comment; reopening of comment period.

SUMMARY: On October 19, 2017, the U.S. Nuclear Regulatory Commission (NRC) requested public comment on the draft revision to its guidance document for alternative disposal requests entitled, “Guidance for the Reviews of Proposed Disposal Procedures and Transfers of Radioactive Material Under 10 CFR 20.2002 and 10 CFR 40.13(a).” The public comment period closed on December 18, 2017. The NRC has decided to reopen the public comment period to allow more time for members of the public to develop and submit their comments.

DATES: The comment period for the document published on October 19, 2017 (82 FR 48727) has been reopened and now closes on January 17, 2018. Comments received after this date will be considered, if it is practical to do so, but the Commission is able to ensure consideration only for comments received on or before this date.

ADDRESSES: You may submit comments by any of the following methods:

• Federal Rulemaking website: Go to http://www.regulations.gov and search for Docket ID NRC-2017-0198. Address questions about NRC dockets to Carol Gallagher; telephone: 301-415-3463; email: Carol.Gallagher@nrc.gov. For technical questions, contact the individual listed in the FOR FURTHER INFORMATION CONTACT section of this document.

• Mail comments to: May Ma, Office of Administration, Mail Stop: OWFN-2-A13, U.S. Nuclear Regulatory Commission, Washington, DC 20555-0001.

For additional direction on obtaining and submitting comments, see “Obtaining Information and Submitting Comments” in the SUPPLEMENTARY INFORMATION section of this document.

FOR FURTHER INFORMATION CONTACT: Robert Lee Gladney, Office of Nuclear Material Safety and Safeguards, U.S. Nuclear Regulatory Commission, Washington, DC 20555-0001; telephone: 301-415-1022; email: Robert.Gladney@nrc.gov.

SUPPLEMENTARY INFORMATION:

I. Obtaining Information and Submitting Comments

A. Obtaining Information

Please refer to Docket ID NRC-2017-0198 when contacting the NRC about the availability of information for this action. You may obtain publicly-available information related to this action by any of the following methods:

• Federal Rulemaking website: Go to http://www.regulations.gov and search for Docket ID NRC-2017-0198.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0198 in your comment submission.

The NRC cautions you not to include identifying or contact information that you do not want to be publicly disclosed in your comment submission. The NRC posts all comment submissions at http://www.regulations.gov and enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On October 19, 2017, the NRC requested public comment on the draft revision to its guidance document for alternative disposal requests entitled, “Guidance for the Reviews of Proposed Disposal Procedures and Transfers of Radioactive Material Under 10 CFR 20.2002 and 10 CFR 40.13(a).” The purpose of this draft revision to the guidance is to improve the alternative disposal process by providing more clarity, consistency, and transparency to the process. In addition, this draft revision to the guidance also clarifies the meaning of disposal relative to 10 CFR 20.2002 authorizations to include recycling and reuse of materials. The draft revision to the guidance is available for public comment in ADAMS under accession number ML16326A063. The NRC is interested in receiving comments related to the draft revision to the guidance from stakeholders, including professional organizations, licensees, Agreement States, and members of the public. Comments will be considered to determine if additional changes to the draft revision to the guidance and the alternative disposal request process are needed.

The NRC received a request from a public stakeholder to extend the comment period for the draft revision to the alternative disposal requests guidance document in order to allow more time for members of the public to submit their comments. The comment period is being reopened and now closes on January 17, 2018.

Dated at Rockville, Maryland, this 18th day of December 2017.
For the Nuclear Regulatory Commission.
John Tappert,
Director, Division of Decommissioning, Uranium Recovery, and Waste Programs, Office of Nuclear Material Safety and Safeguards.

[FR Doc. 2017-27523 Filed 12-20-17; 8:45 am]

BILLING CODE 7590-01-P